DEPARTMENT OF COMMERCE

International Trade Administration

Manufacturing Council

AGENCY: International Trade Administration, U.S. Department of Commerce.

ACTION: Notice of extension of the application period for membership on the Manufacturing Council.

SUMMARY: On September 10, 2014 the Department of Commerce published a notice in the Federal Register seeking applications for appointment of up to 30 members of the Manufacturing Council (Council) for a two-year term to begin in December 2014. The September 10, 2014 notice provided that all applications must be received by the Office of Advisory Committees and Industry Outreach of the Department of Commerce by close of business on October 14, 2014. This notice extends the application period in order to provide the public with an additional opportunity to submit applications. The eligibility and evaluation criteria contained in the September 10, 2014 notice shall continue to apply. The purpose of the Council is to advise the Secretary of Commerce on matters relating to the U.S. manufacturing sector and to provide regular communication between Government and the manufacturing sector.

The Industry and Analysis unit of the International Trade Administration oversees the administration of the Council and collaborates with Congress and other stakeholders to increase the global competitiveness of the U.S. manufacturing sector.

DATES: All applications for immediate consideration for appointment must be received by the Office of Advisory Committees and Industry Outreach by 5:00 p.m. Eastern Daylight Time (EDT) on Friday, November 14, 2014. After that date, ITA will continue to accept applications under this notice for a period of up to two years from the deadline to fill any vacancies that may arise.

ADDRESSES: Please submit applications via email to mc@trade.gov or by mail to Office of Advisory Committees and Industry Outreach, Manufacturing Council Executive Secretariat, U.S. Department of Commerce, Room 4043, 1401 Constitution Avenue NW., Washington, DC 20230.

FOR FURTHER INFORMATION CONTACT: Office of Advisory Committees and Industry Outreach, Manufacturing Council Executive Secretariat, Room 4043, 1401 Constitution Avenue NW., Washington, DC 20230, telephone: 202-482-4501, email: mc@trade.gov. Additional information is also available on the Manufacturing Council Web site at http://trade.gov/manufacturingcouncil.

SUPPLEMENTARY INFORMATION: The Office of Advisory Committees and Industry Outreach is extending the application deadline for accepting applications for 30 positions on the Council for a two-year term beginning in December of 2014. The criteria and procedures for selecting the members contained in the September 10, 2014 notice continue to apply and are republished herein for convenience.

The Council advises the Secretary of Commerce on matters relating to the U.S. manufacturing industry, including on government policies and programs that affect the U.S. manufacturing industry and identifying and recommending programs and policies to help United States manufacturers maintain competitiveness both at home and abroad.

The Council provides a means of ensuring regular contact between the U.S. Government and the manufacturing sector, acting as a liaison among the stakeholders represented by the membership, and may provide a forum for those stakeholders on current and emerging issues in the manufacturing sector. The Council shall recommend ways to ensure that the United States remains the preeminent destination for investment in manufacturing throughout the world.

The Council shall report to the Secretary on its activities and recommendations regarding United States manufacturing. In creating the reports, the Council should: Survey and evaluate the manufacturing activities of the stakeholders represented by the membership; identify and examine specific problems facing the manufacturing industry; examine the needs of the industry to expand the Council's efforts; and recommend specific solutions to these problems and needs.

The Council functions solely as an advisory committee in accordance with the provisions of FACA.

Members will be selected in accordance with applicable Department of Commerce guidelines based on each individual's ability to advise the Secretary of Commerce on matters relating to the U.S. manufacturing sector, to act as a liaison among the stakeholders represented by the membership, and to represent the viewpoint of those stakeholders on current and emerging issues in the manufacturing sector. In assessing this ability, the Department will consider such factors as, but not limited to, the candidate's proven experience in promoting, developing and marketing programs in support of manufacturing industries, job creation in the manufacturing sector, and the candidate's proven abilities to manage manufacturing organizations. Given the duties and objectives of the Council, the Department particularly seeks applicants who are active manufacturing executives (Chief Executive Officer, President, or a comparable level of responsibility) who are leaders within their local manufacturing communities and industry sectors. The Council's membership shall reflect the diversity of American manufacturing by representing a balanced cross-section of the U.S. manufacturing industry in terms of industry sectors, geographic locations, demographics, and company size, particularly seeking the representation of small- and medium-sized enterprises.

The Secretary of Commerce appoints all Council members. All Council members serve at the discretion of the Secretary of Commerce. Council members shall serve in a representative capacity, representing the views and interests of a U.S. entity in the manufacturing industry and its particular sector. For the purposes of eligibility, a U.S. entity is defined as a firm incorporated in the United States (or an unincorporated firm with its principal place of business in the United States) that is (a) majority controlled (more than 50% ownership interest and/or voting stock) by U.S. citizens or by another U.S. entity or (b) majority controlled (more than 50% ownership interest and/or voting stock) directly or indirectly by a foreign parent company.

Because Council members serve in a representative capacity, expressing the views and interests of a U.S. entity, they are therefore not Special Government Employees. Council members receive no compensation for their participation in Council activities. Members participating in Council meetings and events are responsible for their travel, living and other personal expenses. Meetings are held regularly and not less than annually, usually in Washington, DC. Members are required to attend a majority of the Council's meetings. To be considered for membership, an applicant must provide the following information, statements and documents. Incomplete applications cannot be considered.

1. Name and title of the individual requesting consideration.

2. A sponsor letter from the applicant on his or her entity's letterhead containing a brief statement of why the applicant should be considered for membership on the Council. This sponsor letter should also address the applicant's manufacturing-related experience, including any manufacturing trade policy experience.

3. The applicant's personal resume.

4. An affirmative statement that the applicant meets all eligibility criteria.

5. An affirmative statement that the applicant is not required to register as a foreign agent under the Foreign Agents Registration Act of 1938, as amended.

6. Information regarding the ownership and control of the entity to be represented, including the governing structure and stock holdings, as appropriate, demonstrating compliance with the criteria set forth above.

7. The entity's size, place of incorporation or principal place of business, additional manufacturing, innovation and R&D locations, product line, major markets in which the entity operates, and the entity's exporting experience.

8. Information on the challenges the entity faces to stay competitive as a U.S. manufacturer, and the priorities the entity would hope to see the Manufacturing Council address during their term.

9. Please include all relevant contact information such as mailing address, fax, email, phone number, and support staff information where relevant.

Dated: October 21, 2014.
Jennifer Pilat,
Executive Secretary, The Manufacturing Council.

[FR Doc. 2014-25531 Filed 10-24-14; 8:45 am]

BILLING CODE 3510-DR-P